MISSISSIPPI RIVER COMMISSION

Sunshine Act Meeting; Notice

AGENCY HOLDING THE MEETING: Mississippi River Commission.

TIME AND DATE: Begin at 1:30 p.m. and adjourn by 4 p.m., November 27, 2000.

PLACE: Mississippi River Commission Headquarters Building, 1400 Walnut Street, Vicksburg, MS.

STATUS: Open to the public for observation but not for participation.

MATTER TO BE CONSIDERED: The Commission will consider the Wolf River, Memphis, Tennessee, Final Feasibility Report and Final Environmental Impact Statement.

CONTACT PERSON FOR MORE INFORMATION: Mr. Stephen Gambrell, telephone 601-634-5766.

Frederick L. Clapp, Jr.,
Colonel, Corps of Engineers, Secretary, Mississippi River Commission.

[FR Doc. 00-28391 Filed 11-1-00; 1:43 pm]

BILLING CODE 3710-GX-M